POSTAL REGULATORY COMMISSION

[Docket No. N2011-1; Order No. 778]

Postal Service Initiative on Retail Postal Locations

AGENCY: Postal Regulatory Commission.

ACTION: Notice.

SUMMARY: The Commission is noticing a recently-filed Postal Service request for an advisory opinion on an initiative involving examination of the continuation of service at postal retail locations. This document invites public comments on the request and addresses several related procedural steps.

DATES: Notices of intervention are due: August 19, 2011. See the Procedural Schedule in the SUPPLEMENTARY INFORMATION section for other dates of interest.

ADDRESSES: Submit comments electronically by accessing the “Filing Online” link in the banner at the top of the Commission's Web site (http://www.prc.gov) or by directly accessing the Commission's Filing Online system at http://www.prc.gov/prc-pages/filing-online/login.aspx. Commenters who cannot submit their views electronically should contact the person identified in the FOR FURTHER INFORMATION CONTACT section as the source for case-related information for advice on alternatives to electronic filing.

FOR FURTHER INFORMATION CONTACT: Stephen L. Sharfman, General Counsel, at 202-789-6820 (case-related information) or DocketAdmins@prc.gov (electronic filing assistance).

SUPPLEMENTARY INFORMATION: On July 27, 2011, the United States Postal Service (Postal Service) filed a request with the Postal Regulatory Commission (Commission) for an advisory opinion under 39 U.S.C. 3661 regarding use of a centrally directed Retail Access Optimization (RAO) initiative for examining the continuation of service at approximately 3,650 postal retail locations.¹

¹ Request of the United Postal Service for an Advisory Opinion on Changes in the Nature of Postal Services, July 27, 2011 at 1 (Notice).

Jurisdiction. The Postal Service contends that in its present form, the RAO initiative “could be at least `substantially nationwide,' within the meaning of 39 U.S.C. 3661(b).” Id. at 2. The Postal Service states that if it determines any facilities should be closed, postal patrons would have to obtain services at a different postal facility or alternate access channel. Id. The Postal Service asks the Commission to consider whether it has jurisdiction to offer an advisory opinion on the RAO initiative, and if so, to render it. Id.

The RAO initiative applies to postal retail facilities across the country, without limit to geography or population, and is driven by Headquarters. The Commission finds that because the Postal Service's RAO initiative appears to encompass a Headquarters' mandated, systemwide review of postal retail facilities, similar to the review of station and branch discontinuation in Docket No. N2009-1, a Commission advisory opinion pursuant to 39 U.S.C. 3661 is appropriate.

Request. The Request is accompanied by testimony from one witness, James J. Boldt (USPS-T-1), and five library references (two of which are non-public).²

² See Notice of United States Postal Service of Filing of Initial Labrary References and Application for Non-Public Treatment of Materials, July 27, 2011, identifying and describing the library references filed in support of the Postal Service's direct case.

Witness Boldt is identified asthe National Manager, Customer Service Operations, in the Office of Delivery and Post Office Operations at Postal Service Headquarters. USPS-T-1 at i. Witness Boldt's office is described as having primary responsibility for developing policies and procedures relating to the day-to-day operations of post offices, opening or closing of those facilities, and improving customer experience. Id.

Witness Boldt's testimony describes the current state of the Postal Service's retail network, including alternative access channels and underlying trends. Id. at 2-10. The testimony also describes the RAO initiative as a systemwide approach to the decline in demand for retail services and the widespread availability of alternative access channels. Id. at 13-14. The testimony indicates that the Postal Service will evaluate postal offices with low workload, stations and branches with insufficient demand and available alternate access, and retail annexes with insufficient demand and available alternate access. Id. at 14-16.

The Postal Service intends to make use of the new “USPS Handbook PO-101” that reflects recent rules promulgated by the Postal Service concerning the methods to close or consolidate postal retail facilities.³ Id. at 17-18. Finally, the testimony explains how the Postal Service's new rules work and how they will be applied in the RAO initiative. Id. at 19-23.

³ See 39 CFR Part 241.

The Request and all supporting public materials are on file in the Commission's docket room for inspection during regular business hours, and are available on the Commission's Web site at http://www.prc.gov.

Timing. The Postal Service believes that its filing satisfies the 39 CFR 3001.72 requirement that a request for an advisory opinion must be filed at least 90 days in advance of the effective date of the proposed changes. The Postal Service indicates that it started discontinuance actions consistent with the RAO initiative beginning July 26, 2011. Notice at 9. The Postal Service contends that these actions are not “implementation” of a service change because the initial action of public notice of discontinuance is only an “information-gathering process.” Id. The Postal Service states further that if discontinuation is announced, the facility must remain open for a further 60 days. Id. at 10. The Postal Service states that it expects notices announcing discontinuances of particular facilities to be issued starting in late October through late December of 2011. Id.

Further procedures. 39 U.S.C. 3661(c) requires that the Commission afford an opportunity for a formal, on-the-record hearing of the Postal Service's Request under the terms specified in sections 556 and 557 of title 5 of the U. S. Code before issuing its advisory opinion. The Postal Service's request raises important issues. Given the Postal Service's financial position, the Commission finds it appropriate to expedite the proceeding. To facilitate expeditious review of the matter, the Commission expects parties to make judicious use of discovery, discovery objections, and motions' practice. Every effort should be made to confer to resolve disputes informally.

All interested persons are hereby notified that notices of intervention in this proceeding shall be due on or before August 19, 2011. See 39 CFR 3001.20 and 3001.20a. Discovery may be propounded upon filing a notice of intervention. Responses to discovery shall be due within 7 days.

The full procedural schedule shown below the signature of this Order will be followed in this proceeding:

• The hearing to receive the Postal Service's direct case shall begin September 8, 2011.

• Intervenor evidence must be submitted by September 16, 2011.

• The hearing to receive intervenor evidence shall begin October 3, 2011.

• Unless the Postal Service elects to submit surrebuttal evidence, briefs shall be due October 14, 2011, and reply briefs shall be due October 21, 2011.

• If the Postal Service elects to submit surrebuttal evidence, that evidence is due by October 11, 2011.

• The hearing to receive the surrebuttal evidence shall be October 17, 2011.

• If surrebuttal evidence is submitted, briefs shall be due October 26, 2011, and reply briefs shall be due November 2, 2011.

Public Representative. Section 3661(c) of title 39 requires the participation of an “officer of the Commission who shall be required to represent the interests of the general public.” Tracy Ferguson is designated to serve as the Public Representative to represent the interests of the general public in this proceeding, assisted by John P. Klingenberg. Neither the Public Representative nor any additional persons assigned to assist her shall participate in or advise as to any Commission decision in this proceeding, other than in their designated capacity.

It is ordered:

1. The Commission establishes Docket No. N2011-1 to consider the Postal Service Request referred to in the body of this Order.

2. The Commission will sit en banc in this proceeding.

3. The complete procedural schedule for this proceeding is set forth below the signature of this order.

4. Pursuant to 39 U.S.C. 505 and 3661(c), the Commission appoints Tracy Ferguson to represent the interests of the general public in this proceeding.

5. The Secretary shall arrange for publication of this notice and order in the Federal Register.

By the Commission.
Shoshana M. Grove,
Secretary.

Procedural Schedule
August 19, 2011 | Notices of intervention due.
August 20, 2011 | Close of discovery on Postal Service direct case.
September 2, 2011 | Notice of intent to conduct oral cross-examination.
September 8, 2011 | Hearing on the Postal service's direct case (9:30 AM in the ommission's hearing room).
September 9, 2011 | Close of discovery for developing intervenors' direct case.
September 16, 2011 | Filing of rebuttal testimony.
September 23, 2011 | Conclusion of discovery directed towards rebuttal testimony.
September 30, 2011 | Notice of intent to conduct oral cross-examination (rebuttal).
October 3, 2011 | Hearing to enter rebuttal testimony into the record (9:30 AM in the commission's hearing room).
October 5, 2011 | Notice of intent to file surrebuttal testimony.
October 11, 2011 | Filing of surrebuttal testimony (if requested).
October 14, 2011 | Filing of briefs if no surebuttal testimony filed.
October 17, 2011 | Hearing to enter surrebuttal testimony into the record (9:30 AM in the commission's hearing room, if necessary).
October 21, 2011 | Filing of reply briefs if no surrebutal testimony is filed.
October 26, 2011 | Filing of briefs if surrebuttal testimony filed.
November 2, 2011 | Filing of reply briefs if surrebuttal testimony filed.

[FR Doc. 2011-19725 Filed 8-3-11; 8:45 am]

BILLING CODE 7710-FW-P